FEDERAL MARITIME COMMISSION

Notice of Request for Additional Information

The Commission gives notice that it has formally requested that the parties to the below listed agreement provide additional information pursuant to 46 U.S.C. 40304(d). This action prevents the agreement from becoming effective as originally scheduled.

Agreement No.: 011275-022.

Title: Australia/United States Discussion Agreement.

Parties: A.P. Moller-Maersk A/S, Safmarine Container Lines NV, Hamburg-Südamerikanische Dampfschifffahrtsgesellschaft KG, and Hapag-Lloyd AG.

Dated: February 21, 2007.
By Order of the Federal Maritime Commission.
Bryant L. VanBrakle,
Secretary.

[FR Doc. E7-3270 Filed 2-26-07; 8:45 am]

BILLING CODE 6730-01-P